DEPARTMENT OF LABOR

Employment and Training Administration

[TA-W-56,126]

Teleflex Automotive, Inc., Waterbury, Connecticut; Notice of Termination of Investigation

Pursuant to section 221 of the Trade Act of 1974, as amended, an investigation was initiated on December 3, 2004, in response to a worker petition filed by a State Government representative on behalf of workers at Teleflex Automotive, Inc., Waterbury, Connecticut.

The petition regarding the investigation has been deemed invalid. In order to establish a valid worker group, there must be at least three full-time workers employed at some point during the period under investigation. Workers of the group subject to this investigation did not meet the threshold of employment. Consequently the investigation has been terminated.

Signed at Washington, DC, this 16th day of December, 2004.
Elliott S. Kushner,
Certifying Officer, Division of Trade Adjustment Assistance.

[FR Doc. E5-265 Filed 1-25-05; 8:45 am]

BILLING CODE 4510-30-P